INTERNATIONAL BOUNDARY AND WATER COMMISSION, UNITED STATES AND MEXICO

United States Section; Notice of Availability of Draft Programmatic Environmental Impact Statement, Improvements to the USIBWC Rio Grande Flood Control Projects Along the Texas-Mexico Border

AGENCY: United States Section, International Boundary and Water Commission (USIBWC).

ACTION: Notice of availability of Draft Programmatic Environmental Impact Statement.

SUMMARY: Pursuant to section 102(2)(c) of the National Environmental Policy Act (NEPA) of 1969, as amended, the United States Section, International Boundary and Water Commission (USIBWC) has prepared a Draft Programmatic Environmental Impact Statement (Draft PEIS) for future improvements to three Rio Grande Flood Control Projects (FCP) operated by the USIBWC along the Texas-Mexico Border: the Rectification FCP, the Presidio FCP and Lower Rio Grande FCP. The PEIS, prepared in cooperation with the United States Bureau of Reclamation, United States Fish and Wildlife Service and United States Army Corps of Engineers, analyzes potential impacts of the No Action Alternative and three action alternatives for future FCP improvements under consideration.

Because several measures under consideration are at a conceptual level of development, the USIBWC has taken a broad programmatic look at the potential environmental implications of measures identified for future implementation. The USIBWC will apply the programmatic evaluation as an overall guidance for future environmental evaluations of individual improvement projects whose implementation is anticipated or possible within a 20-year timeframe. Once any given improvement project is identified for future implementation, site-specific environmental documentation will be developed based on project specifications and PEIS findings. Public participation in the evaluation of potential effects is encouraged. Public hearings will be held at the Cities of El Paso, Presidio and McAllen, Texas, to receive oral comments on the Draft PEIS from interested organizations and individuals through transcription by a certified court reporter. Written comments may be submitted at the public hearings, or mailed to the USIBWC during the 45-day public review period to the contact and address below.

DATES: Written comments are requested by September 24, 2007, which is calculated from the anticipated date of the Environmental Protection Agency (EPA) Notice of Availability of August 10, 2007. Public hearings will be held at the following locations and dates: (1) El Paso, Texas on August 21, 2007, from 6 p.m. to 9 p.m. MST at the USIBWC Offices, 4171 N. Mesa, C-100, El Paso, Texas 79902; (2) Presidio, Texas on August 22, 2007, from 6 to 9 p.m. CST at the Presidio Chamber of Commerce, 202 W. Oreilly Street, Presidio, Texas 79845; and (3) McAllen Texas on August 28, 2007, from 6 to 9 p.m. CST at the Four Point Sheraton Hotel, 2721 S. 10th Street, McAllen, Texas 78503. Hearing dates and locations also will be announced in local newspapers one week prior to hearing dates.

FOR FURTHER INFORMATION CONTACT: Mr. Daniel Borunda, Environmental Protection Specialist, Environmental Management Division, USIBWC, 4171 North Mesa Street, C-100, El Paso, Texas 79902 or e-mail: danielborunda@ibwc.state.gov.

Copies of the Draft PEIS are available for inspection and review at the following locations: United States Section, International Boundary and Water Commission, 4171 North Mesa Street, El Paso, Texas; USIBWC Mercedes Field Office, 325 Golf Course Road, Mercedes, Texas 78570; Brownsville Public Library, 2600 Central Blvd, Brownsville, Texas 78520; Harlingen Public Library, 410 '76 Drive, Harlingen, Texas 78550; McAllen Public Library, 601 N. Main Street, McAllen, Texas 78501; and City of Presidio Library, 2440 Oreilly St., Presidio, TX 79845. A copy of the Draft PEIS will also be posted at the USIBWC Web site at http://www.ibwc.state.gov.

SUPPLEMENTARY INFORMATION: The Draft PEIS analyzes potential effects of the No Action Alternative and three action alternatives for future improvement of the Rectification, Presidio and Lower Rio Grande Flood Control Projects. Potential improvements were organized in three action alternatives: (1) Enhanced Operation and Maintenance Alternative, focusing on engineering improvements; (2) Integrated Water Resources Management Alternative, integrating additional water conservation and quality measures to the projects' core mission of flood control and water delivery; and (3) Multipurpose Project Management Alternative, incorporating additional measures for multiple use of the floodway and environmental measures supporting initiatives by federal agencies, local governments, and other organizations, to be conducted largely under cooperative agreements. The Draft PEIS evaluated three action alternatives for each flood control project in terms of potential effects relative to those of the No Action Alternative, in the areas of water, biological, cultural and socioeconomic resources, land use, and environmental health issues.

A copy of the Draft PEIS has been filed with EPA in accordance with 40 CFR parts 1500-1508 and USIBWC procedures. The public comment period of the Draft PEIS will end 45 days after publication of the NOA in the Federal Register by EPA.

Dated: July 30, 2007.
Susan Daniel,
General Counsel.

[FR Doc. E7-15146 Filed 8-9-07; 8:45 am]

BILLING CODE 4710-01-P